DEPARTMENT OF THE INTERIOR

Bureau of Land Management

[ES 910-01-1430-HN LRTN]

Notice of Availability and Protest Period for the Proposed Planning Analysis To Acquire Land In Fairfax County, Virginia by the Bureau of Land Management

AGENCY: Bureau of Land Management, Interior.

ACTION: Notice of Availability and Protest Period for the Proposed Planning Analysis to acquire land; correction.

SUMMARY: The Bureau of Land Management published a document in the Federal Register on Monday, August 6, 2001, concerning Notice of Availability and Protest Period for the Proposed Planning Analysis to acquire land on Meadowood Farm in Fairfax County, Virginia. This correction amends the Notice of Availability to specify September 6, 2001, as the deadline for filing protests.

FOR FURTHER INFORMATION CONTACT: Horace Traylor at (703) 440-1509.

Correction: In the Federal Register of August 6, 2001, in FR Doc. 01-19549, appearing on page 41033, in the third column, correct the second paragraph to read:

DATES: The Proposed Plan, EA, and FONSI can be reviewed Mondays through Fridays, from 8 a.m. to 4 p.m., at the BLM's Eastern States Office, 7450 Boston Boulevard in Springfield, Virginia 22153, or by visiting the website at www.es.blm.gov. Protests to the Proposed Plan must be postmarked on or before September 6, 2001.

Dated: August 9, 2001.
Walt Rewinski,
Acting State Director, BLM, Eastern States.

[FR Doc. 01-21960 Filed 8-29-01; 8:45 am]

BILLING CODE 4310-GJ-P